DEPARTMENT OF HEALTH AND HUMAN SERVICES

Centers for Disease Control and Prevention

Disease, Disability, and Injury Prevention and Control Special Emphasis Panel (SEP): Evaluation of Web-Based HIV Risk Behavior Surveillance Among Men Who Have Sex With Men, Program Announcement Number 03095

In accordance with section 10(a)(2) of the Federal Advisory Committee Act (Pub. L. 92-463), the Centers for Disease Control and Prevention (CDC) announces the following meeting:

Name: Disease, Disability, and Injury Prevention and Control Special Emphasis Panel (SEP): Evaluation of Web-Based HIV Risk Behavior Surveillance Among Men Who Have Sex With Men, Program Announcement Number 03095.

Times and Dates: 7 p.m.-8 p.m., August 20, 2003 (Open), 8 a.m.-08:30 a.m., August 21, 2003 (Open), 8:30 a.m.-5 p.m., August 21, 2003 (Closed).

Place: The Westin Atlanta Airport Hotel, 4736 Best Road, Atlanta, GA 30337, Telephone 404.762.7676.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Program Announcement Number 03095.

Contact Person for More Information: Beth Wolfe, Prevention Support Office, National Center for HIV, STD, and TB Prevention, CDC, 1600 Clifton Road, NE, MS-E07, Atlanta, GA 30333, Telephone 404.639.8531.

The Director, Management Analysis and Services Office, has been delegated the authority to sign Federal Register notices pertaining to announcements of meetings and other committee management activities, for both CDC and the Agency for Toxic Substances and Disease Registry.

Dated: July 23, 2003.
Alvin Hall,
Director, Management Analysis and Services Office, Centers for Disease Control and Prevention (CDC).

[FR Doc. 03-19480 Filed 7-30-03; 8:45 am]

BILLING CODE 4163-18-P